DEPARTMENT OF LABOR

Employment and Training Administration

[TA-W-55,161]

Chattanooga General Services, Inc., Chattanooga, TN; Notice of Termination of Investigation

Pursuant to section 221 of the Trade Act of 1974, as amended, an investigation was initiated on June 29, 2004, in response to a worker petition filed by a company official on behalf of workers at Chattanooga General Services, Inc., Chattanooga, Tennessee.

The petitioning group of workers is covered by an earlier petition filed on June 10, 2004 (TA-W-55,100), that is the subject of an ongoing investigation for which a determination has not yet been issued. Further investigation in this case would duplicate efforts and serve no purpose; therefore the investigation under this petition has been terminated.

Signed in Washington, DC, this 19th day of July 2004.
Richard Church,
Certifying Officer, Division of Trade Adjustment Assistance.

[FR Doc. 04-17600 Filed 8-2-04; 8:45 am]

BILLING CODE 4510-30-P